DEPARTMENT OF THE INTERIOR

Fish and Wildlife Service

[FWS-R5-R-2015-N049; BAC-4311-K9]

James River National Wildlife Refuge, Prince George County, VA; Final Comprehensive Conservation Plan and Finding of No Significant Impact for Environmental Assessment

AGENCY: Fish and Wildlife Service, Interior.

ACTION: Notice of availability.

SUMMARY: We, the U.S. Fish and Wildlife Service (Service), announce the availability of the final comprehensive conservation plan (CCP) and finding of no significant impact (FONSI) for James River National Wildlife Refuge (NWR), located in Prince George County, Virginia. The CCP will guide refuge management for the next 15 years.

ADDRESSES: You may view or obtain copies of the final CCP and FONSI by any of the following methods. You may request a hard copy or a CD-ROM.

Agency Web site: Download a copy of the document at http://www.fws.gov/refuge/James_River/what_we_do/conservation.html.

Email: Send requests to EasternVirginiaRiversNWRC@fws.gov. Please include “James River CCP” in the subject line of your email.

U.S. Mail: Andy Hofmann, Refuge Manager, U.S. Fish and Wildlife Service, P.O. Box 1030, Warsaw, VA 22572.

Fax: Attention: Andy Hofmann, 804-333-3396.

In-Person Viewing or Pickup: Call Andy Hofmann, Refuge Manager, at 804-333-1470, extension 112, during regular business hours. For more information on locations for viewing documents, see “Public Availability of Documents” under SUPPLEMENTARY INFORMATION.

FOR FURTHER INFORMATION CONTACT: Andy Hofmann, Refuge Manager, at 804-333-1470, extension 112 (phone) or EasternVirginiaRiversNWRC@fws.gov (email) (please put “James River NWR” in the subject line).

SUPPLEMENTARY INFORMATION:

Introduction

With this notice, we finalize the CCP process for James River NWR. We started this process through a notice in the Federal Register on January 11, 2012 (77 FR 1716). We released a draft CCP and environmental assessment (EA) to the public and requested comments in a notice in the Federal Register on October 22, 2014 (79 FR 63161).

We have selected alternative B for implementation, as it is described in the final CCP for James River NWR. We announce our decision and the availability of the FONSI for the final CCP in accordance with National Environmental Policy Act (40 CFR 1506.6(b)) requirements. We completed an analysis of impacts on the human environment in the draft CCP and EA. We made minor changes and clarifications to the final CCP, where appropriate, to address public comments we received on the draft CCP and EA. A summary of the public comments, and our responses to them, is included as Appendix F in the final CCP.

The 4,324-acre James River NWR lies in the Chesapeake Bay watershed and is located along the James River in Prince George County, Virginia, approximately 8 miles southeast of the city of Hopewell, and 30 miles southeast of Richmond. The refuge was established in 1991 under the authority of the Endangered Species Act of 1973 (16 U.S.C. 1534) to protect nationally significant nesting and roosting habitat for the bald eagle (Haliaeetus leucocephalus).

Background

The National Wildlife Refuge System Administration Act of 1966 (16 U.S.C. 668dd-668ee) (Refuge Administration Act), as amended by the National Wildlife Refuge System Improvement Act of 1997, requires us to develop a CCP for each refuge. The purpose for developing a CCP is to provide refuge managers with a 15-year plan for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Selected Alternative

Alternative B combines the actions we believe would best achieve the refuge's purposes, vision, and goals, and respond to public issues. The basis of our decision is detailed in the FONSI (Appendix G in the final CCP). Under alternative B, we would emphasize the management of specific refuge habitats to support priority species whose habitat needs would benefit other species of conservation concern that are found in the area. We would promote the transition of 2,651 acres of former pine plantation toward mature pine savanna for resident and breeding cavity-dwelling and ground-nesting species, including the brown-headed nuthatch, Chuck-will's-widow, red-headed woodpecker, and yellow-billed cuckoo. We would also emphasize protecting and promoting bald eagle nesting habitat, and protecting the integrity of the refuge's other habitats for native species, including migrating waterfowl, waterbirds, the federally endangered Atlantic sturgeon, and federally threatened sensitive joint-vetch. We would also expand our conservation, research, monitoring, and management partnerships to help restore and conserve the refuge.

We would enhance our cultural resource protection to increase knowledge and appreciation for the refuge's rich cultural history and heritage, as well as expand our visitor services programs to improve opportunities for wildlife-dependent recreation. Visitor service improvements would include expanding the on-refuge opportunities for wildlife observation, photography, environmental education, and interpretation of natural and cultural resources in partnership with others. We would also pursue Service administrative requirements to expand public deer hunting, open the refuge to spring and fall turkey hunting, open the refuge to limited waterfowl hunting by youth, promote youth involvement in all hunting opportunities, and open the refuge to fishing at two designated locations. Further details on our selected alternative and management actions can be found in the CCP.

Public Availability of Documents

In addition to sources listed under ADDRESSES, you can view the final CCP at the Prince George Library, 6605 Courts Drive, Prince George, VA 23875.

Dated: June 11, 2015.
Deborah Rocque,
Acting Regional Director, Northeast Region.

[FR Doc. 2015-16764 Filed 7-08-15; 8:45 a.m.]

BILLING CODE 4310-55-P